DEPARTMENT OF THE INTERIOR

National Park Service

[NPS-WASO-NAGPRA-16828; PPWOCRADN0-PCU00RP14.R50000]

Notice of Inventory Completion: U.S. Department of the Interior, Bureau of Indian Affairs, Washington, DC, and Arizona State Museum, University of Arizona, Tucson, AZ; Correction

AGENCY: National Park Service, Interior.

ACTION: Notice; correction.

SUMMARY: The United States Department of the Interior, Bureau of Indian Affairs, and Arizona State Museum, University of Arizona, have corrected an inventory of human remains and associated funerary objects, published in a Notice of Inventory Completion in the Federal Register on February 27, 2012. This notice corrects the minimum number of individuals and number of associated funerary objects. Lineal descendants or representatives of any Indian tribe or Native Hawaiian organization not identified in this notice that wish to request transfer of control of these human remains and associated funerary objects should submit a written request to the Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Indian Affairs at the address in this notice by December 17, 2014.

ADDRESSES: Anna Pardo, NAGPRA Coordinator, Bureau of Indian Affairs, 12220 Sunrise Valley Drive, Room 6084, Reston, VA 20191, telephone (703) 390-6343.

SUPPLEMENTARY INFORMATION: Notice is here given in accordance with the Native American Graves Protection and Repatriation Act (NAGPRA), 25 U.S.C. 3003, of the correction of an inventory of human remains and associated funerary objects under the control of the U.S. Department of the Interior, Bureau of Indian Affairs, Washington, DC, and in the physical custody of the Arizona State Museum, University of Arizona, Tucson, AZ (ASM). The human remains and associated funerary objects were removed from a location within the boundaries of the Fort Apache Indian Reservation, Navajo County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (77 FR 11578-11580, February 27, 2012). Re-inventory of the human remains resulted in a reduction in the minimum number of individuals represented because many fragmentary elements could be reassociated with individuals from the more intact burials. The number of associated funerary objects increased due a search through uncatalogued object collections.

Correction

In the Federal Register (77 FR 11579, February 27, 2012), paragraph 7 is corrected by substituting the following paragraph:

In the years 1963 through 1977, human remains representing, at minimum, 1,021 individuals were removed from the Grasshopper Pueblo site AZ P:14:1(ASM), in Navajo County, AZ, as a result of legally authorized excavations conducted by the University of Arizona Archaeological Field School. Archaeological collections from the site were brought to the museum at the end of each field season. No known individuals were identified. The 8,858 associated funerary objects are 692 animal bones, 1 animal effigy pendant, 2 animal skeletons, 2 antler artifacts, 1 antler baton, 1 antler fragment, 1 antler wrench, 17 lots of beads of unidentified material, 29 bird bones, 6 bird skeletons, 25 bone artifacts, 35 bone awls, 2 bone awl fragments, 1 bone bead, 4 bone hair ornaments, 2 bone hairpins, 2 bone needles, 25 bone rings, 1 bone ring fragment, 1 bone spatula, 1 bone tool, 1 bone wand, 13 lots of botanical material, 1 ceramic artifact, 650 ceramic bowls, 16 ceramic bowl fragments, 2 ceramic canteens, 1 ceramic figurine fragment, 204 ceramic jars, 8 ceramic jar fragments, 1 ceramic mug, 1 ceramic pendant, 8 ceramic pitchers, 1 ceramic pitcher fragment, 2 ceramic plates, 1 ceramic platter, 4 ceramic scoops, 3,736 ceramic sherds, 1 ceramic sherd artifact, 1 ceramic sherd disk, 32 ceramic vessels, 1 ceramic vessel fragment, 1 chipped stone core, 141 chipped stone flakes, 1,852 chipped stone fragments, 2 clay samples, 52 crystals, 1 decorated shell, 2 disks, 1 drill, 25 flotation samples, 6 fossils, 3 ground stones, 2 hammerstones, 1 handstone, 15 manos, 2 mano fragments, 5 lots of matting, 1 medicine bundle, 25 minerals, 3 mortars, 2 lots of organic material, 91 pebbles, 1 pecking stone, 4 pendants, 3 lots of plant fiber matting, 16 polishing stones, 164 pollen samples, 6 quartz crystals, 16 lots of raw material, 7 shaft straighteners, 109 shells, 6 shell artifacts, 1 shell artifact fragment, 26 lots of shell beads, 32 shell bracelets, 6 shell bracelet fragments, 3 shell fragments, 1 shell necklace, 22 shell pendants, 4 shell pendant fragments, 8 shell rings, 1 shell ring fragment, 51 shell tinklers, 7 snail shells, 2 soil impressions, 29 soil samples, 3 stones, 13 stone artifacts, 1 stone axe, 5 lots of stone beads, 6 stone cores, 5 stone figurines, 3 stone knives, 14 stone pendants, 236 stone projectile points, 1 stone projectile point preform, 1 stone punch, 2 stone scrapers, 11 stone slabs, 1 lot of string, 28 tree ring samples, 3 lots of turquoise beads, 57 turquoise pendants, 132 turquoise tesserae, 16 unidentified artifacts, 3 lots of unidentified material, 1 lot of unidentified organic material, 3 wood fragments, 2 worked animal bones, 2 worked ceramic sherds, 12 worked chipped stone pieces, 1 worked shell, and 2 worked stone flakes.

In the Federal Register (77 FR 11580, February 27, 2012), paragraph 5 is corrected by substituting the following paragraph:

Pursuant to 25 U.S.C 3001(9), the human remains described in this notice represent the physical remains of 1,021 individuals of Native American ancestry.

In the Federal Register (77 FR 11580, February 27, 2012), paragraph 6 is corrected by substituting the following paragraph:

Pursuant to 25 U.S.C. 3001(3)(A), the 8,858 objects described above are reasonably believed to have been placed with or near individual human remains at the time of death or later as a part of the death rite or ceremony.

Additional Requestors and Disposition

Lineal descendants or representatives of any Indian tribe or Native Hawaiian organization not identified in this notice that wish to request transfer of control of these human remains and associated funerary objects should submit a written request with information in support of the request to Anna Pardo, NAGPRA Coordinator, Bureau of Indian Affairs, Reston, VA 20191, telephone (703) 390-6343, by December 17, 2014. After that date, if no additional requestors have come forward, transfer of control of the human remains and associated funerary objects to the Hopi Tribe of Arizona and Zuni Tribe of the Zuni Reservation, New Mexico may proceed.

The Arizona State Museum is responsible for notifying the Hopi Tribe of Arizona; White Mountain Apache Tribe of the Fort Apache Reservation, Arizona; and the Zuni Tribe of the Zuni Reservation, New Mexico, that this notice has been published.

Dated: September 29, 2014.
Melanie O'Brien,
Acting Manager, National NAGPRA Program.

[FR Doc. 2014-27150 Filed 11-14-14; 8:45 am]

BILLING CODE 4312-50-P